DEPARTMENT OF AGRICULTURE

Submission for OMB Review; Comment Request

The Department of Agriculture has submitted the following information collection requirement(s) to Office of Management and Budget (OMB) for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; ways to minimize the burden of the collection of information on those who are to respond, including through the use of appropriate automated, electronic, mechanical, or other technological collection techniques or other forms of information technology.

Comments regarding this information collection received by November 24, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Rural Utilities Service

Title: Empowering Rural America Program.

OMB Control Number: 0572-0158.

Summary of Collection: The Empowering Rural America (New ERA) Program provides financial assistance to Eligible Entities, as described in Section C, to achieve the greatest reductions in GHG emissions through the cooperatives' voluntary transformation of rural electric systems in a way that promotes resiliency and reliability of rural electric systems and affordability for their members.

With the Inflation Reduction Act, the Biden-Harris Administration and the United States Congress are making the greatest investment in rural electrification since the New Deal. The Biden-Harris Administration understands the transformative nature and special qualities provided by this appropriation. Energy produced will be clean, affordable, reliable, and owned by the people who live in rural America. As a result, this legislation and the funding opportunity here allows for a New ERA in rural communities.

Need and Use of the Information: Eligible applicants under the New ERA Program are electric cooperatives as described in section 501(c)(12) or 1381(a)(2) of the Internal Revenue Code of 1986 and is or has been a RUS (formerly the Rural Electrification Administration) electric loan borrower pursuant to the RE Act or is serving a predominantly rural area (or a wholly or jointly owned subsidiary of such electric cooperative). There are well over 900 rural electric cooperatives eligible for this program.

The application process for the New ERA Program will be conducted in two phases. Phase one will be a Letter of Interest (LOI) with sufficient information to determine a pool of prospective applicants which advance the goals of the statute, achieve policy objectives, meet minimum requirements, and are within the budget of the program. Those LOIs that meet the criteria will be issued an Invitation to Proceed to submit a full, complete New ERA application (phase two).

Applicants wishing to apply for the New ERA Program with an LOI and if successful, a complete application must submit requested data, proposals, certifications and agreements to the Agency thru an online application window. The information collected will be used to: determine applicant and project eligibility, assess the projects' technical and financial merit and evaluate the metrics that reflect achieving the greatest reductions in greenhouse gas emissions in order to rank the applications and determine which ones to offer an award. Lack of adequate information to make the determinations could result in the improper administration and appropriation of Federal funds.

Description of Respondents: State, Local, and Tribal Governments.

Number of Respondents: 250.

Frequency of Responses: Reporting: On occasion; Annually.

Total Burden Hours: 185,514.

Rural Utilities Service

Title: Powering Affordable Clean Energy Program.

OMB Control Number: 0572-0159.

Summary of Collection: On August 16, 2022, Congress passed the Inflation Reduction Act (IRA) of 2022 (Pub. L. 117-169). Subtitle C, Section 22001 of IRA amended Section 9003 of the Farm Security and Rural Investment Act of 2002 (7 U.S.C. 8103) by adding new subsection (h). Through the passing of IRA, the Powering Affordable Clean Energy (PACE) Program was established with the goal of supporting clean, affordable energy growth across America.

The PACE Program will be administered by the Rural Utilities Service (RUS), a Rural Development (RD) Agency of the United States Department of Agriculture (USDA), that provides mortgage loans and loan guarantees to electric systems to provide and improve electric service in rural areas pursuant to the Rural Electrification Act of 1936, as amended (7 U.S.C. 901 et seq., RE Act). Section 22001 of IRA provided the Agency with $1,000,000,000 in Budget Authority (BA), to remain available until September 30, 2031. With this BA, the Agency through the PACE Program, will provide loans to eligible entities, with varying levels of loan forgiveness, for Projects that generate and/or store electricity from Renewable Energy Resource (RER) systems.

Need and Use of the Information: The Application process for the PACE Program will be conducted in two phases. Phase one will be a Letter of Interest (LOI) with sufficient information to determine a pool of prospective applicants which advance the goals of the statute, achieve policy objectives, meet minimum requirements, and are within the budget of the program. Those LOIs that meet the criteria will be issued an Invitation to Proceed to submit a full, complete Application (phase two).

Applicants wishing to apply for the PACE Program with a LOI and if successful, a completed Application must submit requested data, proposals, certifications, and agreements to the Agency thru an online application window. The information collected will be used to determine a borrower's ability to meet financial obligations, includes analyses and document review by RUS regarding the applicant's historical, current, and projected costs, revenues, cash flows, assets, and other factors that may be relevant on a case-by-case basis. RUS recognizes that Projects outlined by applicants may vary in size, financial complexity, and administration; so, the respondent's burden may vary as well. The RUS Administrator maintains discretion to forego requirements for parts of the following information as required by the conditions among applicants.

Description of Respondents: State, Local, and Tribal Governments.

Number of Respondents: 250.

Frequency of Responses: Reporting: On occasion; Annually.

Total Burden Hours: 23,333.

Levi S. Harrell,
Departmental Information Collection Clearance Officer.

[FR Doc. 2023-23451 Filed 10-23-23; 8:45 am]

BILLING CODE 3410-15-P